DEPARTMENT OF AGRICULTURE

Food Safety and Inspection Service

[Docket No. FSIS-2011-0001]

International Standard-Setting Activities

AGENCY: Office of Food Safety, USDA.

ACTION: Notice.

SUMMARY: This notice informs the public of the sanitary and phytosanitary standard-setting activities of the Codex Alimentarius Commission (Codex), in accordance with section 491 of the Trade Agreements Act of 1979, as amended, and the Uruguay Round Agreements Act, Public Law 103-465, 108 Stat. 4809. This notice also provides a list of other standard-setting activities of Codex, including commodity standards, guidelines, codes of practice, and revised texts. This notice, which covers the time periods from June 1, 2010, to May 31, 2011, and June 1, 2011, to May 31, 2012, seeks comments on standards under consideration and recommendations for new standards.

ADDRESSES: Comments may be submitted by either of the following methods:

• Federal eRulemaking Portal: This Web site provides the ability to type short comments directly into the comment field on this Web page or attach a file for lengthier comments. Go to http://www.regulations.gov. Follow the online instructions at that site for submitting comments.

• Mail, including diskettes or CD-ROMs and hand- or courier-delivered items: Send to Docket Clerk, U.S. Department of Agriculture, Food Safety and Inspection Service, Room 2-2127, George Washington Carver Center, 5601 Sunnyside Avenue, Mailstop 5272, Beltsville, MD 20705-5272.

Instructions: All items submitted by mail or electronic mail must include the Agency name and docket number FSIS-2011-0001. Comments received in response to this docket will be made available for public inspection and posted without change, including any personal information, to http://www.regulations.gov.

Docket: For access to comments received, go to the FSIS Docket Room at the address listed above between 8:30 a.m. and 4:30 p.m., Monday through Friday.

Please state that your comments refer to Codex and, if your comments relate to specific Codex committees, please identify those committees in your comments and submit a copy of your comments to the delegate from that particular committee.

FOR FURTHER INFORMATION CONTACT: Karen Stuck, United States Manager for Codex, U.S. Department of Agriculture, Office of Food Safety, Room 4861, South Agriculture Building, 1400 Independence Avenue, SW., Washington, DC 20250-3700; phone: (202) 205-7760; fax: (202) 720-3157; e-mail: USCodex@fsis.usda.gov.

For information pertaining to particular committees, the delegate of that committee may be contacted. (A complete list of U.S. delegates and alternate delegates can be found in Attachment 2 of this notice.) Documents pertaining to Codex and specific committee agendas are accessible via the World Wide Web at http://www.codexalimentarius.net/current.asp. The U.S. Codex Office also maintains a Web site at http://www.fsis.usda.gov/Regulations_&_Policies/Codex_Alimentarius/index.asp.

SUPPLEMENTARY INFORMATION:

Background

The World Trade Organization (WTO) was established on January 1, 1995, as the common international institutional framework for the conduct of trade relations among its members in matters related to the Uruguay Round Trade Agreements. The WTO is the successor organization to the General Agreement on Tariffs and Trade (GATT). U.S. membership in the WTO was approved and the Uruguay Round Agreements Act was signed into law by the President on December 8, 1994. The Uruguay Round Agreements became effective, with respect to the United States, on January 1, 1995. Pursuant to section 491 of the Trade Agreements Act of 1979, as amended, the President is required to designate an agency to be “responsible for informing the public of the sanitary and phytosanitary (SPS) standard-setting activities of each international standard-setting organization.” The main organizations are Codex, the World Organisation for Animal Health, and the International Plant Protection Convention. The President, pursuant to Proclamation No. 6780 of March 23, 1995 (60 FR 15845), designated the U.S. Department of Agriculture as the agency responsible for informing the public of the SPS standard-setting activities of each international standard-setting organization. The Secretary of Agriculture has delegated to the Office of Food Safety the responsibility to inform the public of the SPS standard-setting activities of Codex. The Office of Food Safety has, in turn, assigned the responsibility for informing the public of the SPS standard-setting activities of Codex to the U.S. Codex Office.

Codex was created in 1963 by two United Nations organizations, the Food and Agriculture Organization (FAO) and the World Health Organization (WHO). Codex is the principal international organization for establishing standards for food. Through adoption of food standards, codes of practice, and other guidelines developed by its committees and by promoting their adoption and implementation by governments, Codex seeks to protect the health of consumers, ensure fair practices in the food trade, and promote coordination of food standards work undertaken by international governmental and nongovernmental organizations. In the United States, U.S. Codex activities are managed and carried out by the United States Department of Agriculture (USDA); the Food and Drug Administration (FDA), Department of Health and Human Services (HHS); the National Oceanic and Atmospheric Administration (NOAA), Department of Commerce (DOC); and the Environmental Protection Agency (EPA).

As the agency responsible for informing the public of the SPS standard-setting activities of Codex, the Office of Food Safety publishes this notice in the Federal Register annually. Attachment 1 (Sanitary and Phytosanitary Activities of Codex) sets forth the following information:

1. The SPS standards under consideration or planned for consideration; and

2. For each SPS standard specified:

a. A description of the consideration or planned consideration of the standard;

b. Whether the United States is participating or plans to participate in the consideration of the standard;

c. The agenda for United States participation, if any; and

d. The agency responsible for representing the United States with respect to the standard.

To Obtain Copies of the Standards Listed in Attachment 1, Please Contact the Codex Delegate or the U.S. Codex Office

This notice also solicits public comment on standards that are currently under consideration or planned for consideration and recommendations for new standards. The delegate, in conjunction with the responsible agency, will take the comments received into account in participating in the consideration of the standards and in proposing matters to be considered by Codex.

The United States delegate will facilitate public participation in the United States Government's activities relating to Codex Alimentarius. The United States delegate will maintain a list of individuals, groups, and organizations that have expressed an interest in the activities of the Codex committees and will disseminate information regarding United States delegation activities to interested parties. This information will include the status of each agenda item; the United States Government's position or preliminary position on the agenda items; and the time and place of planning meetings and debriefing meetings following Codex committee sessions. In addition, the U.S. Codex Office makes much of the same information available through its Web page, http://www.fsis.usda.gov/Regulations_&_Policies/Codex_Alimentarius/index.asp. If you would like to access or receive information about specific committees, please visit the Web page or notify the appropriate U.S. delegate or the U.S. Codex Office, Room 4861, South Agriculture Building, 1400 Independence Avenue, SW., Washington, DC 20250-3700 (uscodex@fsis.usda.gov).

The information provided in Attachment 1 describes the status of Codex standard-setting activities by the Codex Committees for the time periods from June 1, 2010, to May 31, 2011, and June 1, 2011, to May 31, 2012. Attachment 2 provides a list of U.S. Codex Officials (including U.S. delegates and alternate delegates). A list of forthcoming Codex sessions may be found at http://www.codexalimentarius.net/current.asp.

Additional Public Notification

Public awareness of all segments of rulemaking and policy development is important. Consequently, in an effort to ensure that the public and in particular minorities, women, and persons with disabilities are aware of this notice, FSIS will announce it online through the FSIS Web page located at http://www.fsis.usda.gov/regulations_&_policies/Federal_Register_Notices/index.asp.

FSIS also will make copies of this Federal Register publication available through the FSIS Constituent Update, which is used to provide information regarding FSIS policies, procedures, regulations, Federal Register notices, FSIS public meetings, and other types of information that could affect or would be of interest to our constituents and stakeholders. The Update is communicated via Listserv, a free e-mail subscription service consisting of industry, trade, and farm groups; consumer interest groups; allied health professionals; scientific professionals; and other individuals who have requested to be included. The Update also is available on the FSIS Web page. Through Listserv and the Web page, FSIS is able to provide information to a much broader, more diverse audience. In addition, FSIS offers an e-mail subscription service that provides automatic and customized access to selected food safety news and information. This service is available at http://www.fsis.usda.gov/News_&_Events/Email_Subscription/. Options range from recalls and export information to regulations, directives, and notices. Customers can add or delete subscriptions themselves and have the option to password protect their accounts.

Done at Washington, DC, on June 1, 2011.
Karen Stuck,
U.S. Manager for Codex Alimentarius.

Attachment 1

Sanitary and Phytosanitary Activities of Codex Alimentarius Commission and Executive Committee

The Codex Alimentarius Commission will hold its Thirty Fourth Session July 4-9, 2011, in Geneva, Switzerland. At that time, it will consider standards, codes of practice, and related matters forwarded to the Commission by the general subject committees, commodity committees, and ad hoc Task Forces for adoption as Codex standards and guidance. The Commission will also consider the implementation status of the Codex Strategic Plan, the management of the Trust Fund for the Participation of Developing Countries and Countries in Transition in the Work of the Codex Alimentarius, as well as financial and budgetary issues. At this Session, the Commission will elect a chairperson and three vice chairpersons.

Prior to the Commission meeting, the Executive Committee will meet at its Sixty-fifth Session on June 28-July 1, 2011. It is composed of the chairperson; vice-chairpersons; seven members elected from the Commission from each of the following geographic regions: Africa, Asia, Europe, Latin America and the Caribbean, Near East, North America, and South-West Pacific; and regional coordinators from the six regional committees. The United States is the elected representative from North America. The Executive Committee will conduct a critical review of the elaboration of Codex standards; consider applications from international non-governmental organizations for observer status in Codex; consider the Codex Strategic Plan and the capacity of the Secretariat; review matters arising from reports of Codex Committees and proposals for new work; and review the Food and Agriculture Organization and the World Health Organisation (FAO/WHO) Trust Fund for Enhanced Participation in Codex.

Responsible Agency: USDA/FSIS.

U.S. Participation: Yes.

Codex Committee on Residues of Veterinary Drugs in Foods

The Codex Committee on Residues of Veterinary Drugs in Foods (CCRVDF) determines priorities for the consideration of residues of veterinary drugs in foods and recommends Maximum Residue Limits (MRLs) for veterinary drugs. The Committee also develops codes of practice, as may be required, and considers methods of sampling and analysis for the determination of veterinary drug residues in food. A veterinary drug is defined as any substance applied or administered to a food producing animal, such as meat or milk producing animals, poultry, fish or bees, whether used for therapeutic, prophylactic or diagnostic purposes, or for modification of physiological functions or behavior.

A Codex Maximum Residue Limit (MRL) for Residues of Veterinary Drugs is the maximum concentration of residue resulting from the use of a veterinary drug (expressed in mg/kg or ug/kg on a fresh weight basis) that is recommended by the Codex Alimentarius Commission to be permitted or recognized as acceptable in or on a food. An MRL is based on the type and amount of residue considered to be without any toxicological hazard for human health as expressed by the Acceptable Daily Intake (ADI) or on the basis of a temporary ADI that utilizes an additional safety factor. The MRL also takes into account other relative public health risks as well as food technological aspects.

When establishing an MRL, consideration is also given to residues that occur in food of plant origin or the environment. Furthermore, the MRL may be reduced to be consistent with good veterinary practices in the use of veterinary drugs and to the extent that practical analytical methods are available.

An Acceptable Daily Intake (ADI) is an estimate by the Joint FAO/WHO Expert Committee on Food Additives (JECFA) of the amount of a veterinary drug, expressed on a body weight basis, which can be ingested daily over a lifetime without appreciable health risk.

The 19th Session of the Committee met in Burlington, Vermont, on August 30-September 3, 2010. The reference document is ALINORM REP11/RVDF. The results of the 19th session of the CCRVDF will be considered by the Commission at the 34th Session in July 2011. To be considered for final adoption at Step 8:

• Draft MRLs for Narasin (pig tissues) and Tilmicosin (chicken and turkey tissues).

The Committee will continue work on the following:

• Draft MRLs for Narasin (cattle tissues).

• Proposed draft Sampling Plans for Residue Control in Aquatic Animal Products and Derived Edible Products of Aquatic Origin.

• Proposed draft Guidelines on Performance Characteristics for Multi-Residue Methods.

• Priority list of veterinary drugs requiring evaluation or re-evaluation by JECFA.

• Proposed amendments to the Risk Analysis Principles for CCRVDF for comments and consideration at the next session.

• Proposed revision of Risk Analysis Principles Applied by the CCRVDF and the Risk Assessment Policy for the Setting of MRLs for Veterinary Drugs.

• Discussion paper on Extrapolation of MRLs to Additional Species and Tissues.

• Database on need for MRLs of developing countries.

• Proposed amendments to the Terms of Reference of CCRVDF.

• Risk management recommendations for the veterinary drugs for which no ADI or MRL has been recommended by JECFA due to specific human health concerns.

• Discussion paper on Policy for the Establishment of MRLs or Other Limits in Honey.

Responsible Agencies: HHS/FDA/CVM; USDA/FSIS.

U.S. Participation: Yes.

Codex Committee on Contaminants in Foods

The Codex Committee on Contaminants in Foods (CCCF) establishes or endorses permitted maximum levels (ML) and, where necessary, revises existing guidelines levels for contaminants and naturally occurring toxicants in food and feed; prepares priority lists of contaminants and naturally occurring toxicants for risk assessment by the Joint FAO/WHO Expert Committee on Food Additives; considers and elaborates methods of analysis and sampling for the determination of contaminants and naturally occurring toxicants in food and feed; considers and elaborates standards or codes of practice for related subjects; and considers other matters assigned to it by the Commission in relation to contaminants and naturally occurring toxicants in food and feed.

The Committee held its Fifth Session in The Hague, Netherlands, from March 21-25, 2011. The relevant document is REP11/CF. The following items are to be considered for adoption at Step 5/8 by the 34th Session of the Commission in July 2011:

• Proposed draft Code of Practice for the Prevention and Reduction of Ethyl Carbamate in Stone Fruit Distillates.

• Proposed draft Maximum Levels for Melamine in Food (Liquid Infant Formula).

The Committee established or reconvened working groups to:

• Develop proposed draft Maximum Levels for DON and its Acetylated Derivatives in Cereals and Cereal-based Products, including the possibility of revising the existing Code of Practice for the Prevention and Reduction of Mycotoxin Contamination in Cereals.

• Develop Guidance for Risk Management Options on How to Deal with the Results from New Risk Assessment Methodologies focusing on (1) a description of different risk assessment outcomes in language understandable for risk managers, and (2) the implication of the outcomes and possible risk management options.

• Update the discussion paper on Ochratoxin in Cocoa with a view toward discussing at the 6th session of CCFH a possible Code of Practice.

• Update the discussion paper relative to the Code of Practice for the Prevention and Reduction of Mycotoxin Contamination in Cereals to determine its relevance to Sorghum, so as to provide background for discussions at the 6th CCCF on the possibility of developing an annex pertaining to Aflatoxins in grain sorghum.

• Compile exiting management practices for Pyrrolizidine Alkaloids for consideration by the 6th session of CCCF of a Code of Practice.

• Develop MLs for Arsenic in rice, specifying whether they apply to total and/or inorganic Arsenic in rice.

The Committee decided to continue work on:

• Proposed draft Maximum Level for Total Aflatoxins in Dried Figs.

• Editorial amendments to the General Standard on Contaminants and Toxins in Food and Feed.

The Committee decided to initiate new work on:

• Reconsidering Maximum Levels for Lead, focusing on foods important to infants and children, and also on canned fruits and vegetables.

The Committee endorsed the following priority list of contaminants and naturally occurring toxicants for JECFA evaluation:

• 3-MCPD esters.

• Glycidyl esters.

• Pyrrolizidine alkaloids.

• Non dioxin-like PCBs.

Responsible Agencies: HHS/FDA; USDA/FSIS.

U.S. Participation: Yes.

Codex Committee on Food Additives

The Codex Committee on Food Additives (CCFA) establishes or endorses acceptable maximum levels (MLs) for individual food additives; prepares a priority list of food additives for risk assessment by the Joint FAO/WHO Expert Committee on Food Additives (JECFA); assigns functional classes to individual food additives; recommends specifications of identity and purity for food additives for adoption by the Commission; considers methods of analysis for the determination of additives in food; and considers and elaborates standards or codes for related subjects such as the labeling of food additives when sold as such. The 43rd Session of the Committee met in Xiamen, China, March 14-18, 2011. The relevant document is REP11/FA. Immediately prior to the Plenary Session, there was a 2-day physical Working Group on the General Standard for Food Additives (GSFA) chaired by the United States. The following items discussed at the Plenary Session will be considered by the 34th Session of the Commission in July 2011. To be considered for adoption at Step 8:

• Draft food additive provisions of the GSFA.

• Revised text of Section 4 (Carry-over of Food Additives into Food) of the Preamble of the GSFA.

To be considered for adoption at Step 5/8:

• Proposed draft food additive provisions of the GSFA.

• Proposed draft revision of the Food Category System of the GSFA (Food Categories 05.1, 05.3 and 05.4) (N07-2010).

• Proposed draft amendments to the Codex Guideline on Class Names and International Numbering System for Food Additives (CAC/GL 36-1989).

• Proposed draft specifications for the identity and purity of food additives arising from the 73rd JECFA, including 14 food additives and 167 flavorings.

To be considered for adoption at Step 5:

• Proposed draft revision of the Standard for Food Grade Salt (CODEX STAN 150-1985) (N08-2010).

The Committee also agreed to forward the following to the CAC:

• Food additive provisions of the GSFA recommended for revocation.

• Draft and proposed draft food additive provisions of the GSFA recommended for discontinuation.

• Amendment to the GSFA provision for sulfites in food category 04.1.2.2 (Dried fruits) to reflect the food additive provisions in the Draft Standard for Dessicated Coconut (revision of CODEX STAN 177-1991).

• Amendment to “Explanatory Notes on the Lay-out of the INS” (Section 1 of the Codex Guideline on Class Names and International Numbering System for Food Additives (CAC/GL 36-1989)).

The Committee agreed to establish electronic Working Groups and named lead countries on:

• Provisions for aluminum-containing food additives in the GSFA (Brazil).

• Application of Note 161 (“Subject to national legislation of the importing country aimed, in particular, at consistency with Section 3.2 of the Preamble.”) to food additive provisions in the GSFA, with formulation of recommendations to facilitate a uniform implementation of Section 3.2 of the Preamble to the GSFA (South Africa).

• A discussion paper on Food Category 16.0 (Composite foods—foods that could not be placed in categories 01-15) that would: (1) Contain a description of the products in this category, and (2) provide proposals for revision of the name and descriptors of this food category (United States).

• Proposals for changes and additions to the INS, with a focus on changes to technological purposes (Iran).

• Mechanisms for re-evaluation of substances by JECFA, that would establish criteria to prioritize food additives for re-evaluation, with a focus on food colors (Canada).

• Food additive provisions in the GSFA, including: (1) Draft and proposed draft provisions, (2) provisions for which additional information was requested, and (3) provisions in Tables 1 and 2 of the GSFA for those food additives in Table 3 with the function “acidity regulators” and “emulsifiers, stabilizers, thickeners” (United States).

• Alignment of the food additive provisions in the Codex commodity standards for meat products and relevant provisions of the GSFA (Australia).

The Committee agreed to continue working on:

• Prototype of a database on processing aids (China).

• Information document on the GSFA (Codex Secretariat).

• Information document on food additive provisions in commodity standards (Codex Secretariat).

• Information document on Inventory of Substances Used as Processing Aids (New Zealand).

The Committee also agreed to hold a physical Working Group on the GSFA immediately preceding the 44th session of CCFA.

Responsible Agency: HHS/FDA.

U.S. Participation: Yes.

Codex Committee on Pesticide Residues

The Codex Committee on Pesticide Residues (CCPR) is responsible for establishing maximum limits for pesticide residues in specific food items or in groups of food; establishing maximum limits for pesticide residues in certain animal feeding stuffs moving in international trade where this is justified for reasons of protection of human health; preparing priority lists of pesticides for evaluation by the Joint FAO/WHO Meeting on Pesticide Residues (JMPR); considering methods of sampling and analysis for the determination of pesticide residues in food and feed; considering other matters in relation to the safety of food and feed containing pesticide residues and; establishing maximum limits for environmental and industrial contaminants showing chemical or other similarity to pesticides in specific food items or groups of food.

The 43rd Session of the Committee met in Beijing, China, on April 4-9, 2011. The relevant document is REP11/PR. The following items will be considered by the Commission at its 34th Session in July 2011. To be considered for adoption at Step 8:

• Draft MRLs for Pesticides.

To be considered at Step 5/8:

• Proposed draft MRLs for Pesticides.

• Proposed draft revision of the Guidelines on the Estimation of Uncertainty of Results for the Determination of Pesticide Residues (Annex to CAC/GL 59-2006).

• Codex Maximum Residue Limits for Pesticides Recommended for Revocation.

• Analysis of Pesticide Residues: Recommended Methods (Codex Stan 229-1993) Recommended for Revocation.

• Approval of new work for the Priority List for the Establishment of MRLs for Pesticides.

The Committee will continue working on:

• Draft revision of the Classification of Foods and Animal Feeds: Tree Nuts, Herbs and Spices.

• Draft Principle and Guidance for the Selection of Representative Commodities for the Extrapolation of Maximum Residue Limits for Pesticides for Commodity Groups (including Table 1 on fruit commodities).

• Draft revision of the Classification of Foods and Animal Feeds: Herbs—Edible Flowers.

• Proposed draft MRLs for Pesticides at Step 5.

• Proposed draft revision of the Classification of Foods and Animal Feeds: Assorted Tropical and Sub-tropical Fruits—edible peel and Assorted Tropical and Sub-Tropical Fruits—inedible peel.

• Proposed draft revision of the Classification of Foods and Animal Feeds: Other vegetable commodity groups.

• Establishment of Codex Priority Lists of Pesticides (Evaluation of New Pesticides and Pesticides under the Periodic Re-Evaluation).

• Application of Proportionality in Selecting Data for MRL Estimation.

• Revision of the Risk Analysis Principles applied by the Codex Committee on Pesticide Residues.

• Consideration of the status of Codex MRLs for Lindane.

• Development of criteria for use by CCPR and JMPR to determine minimum number of field trials necessary to support the establishment of MRLs for minor uses/specialty crops.

Responsible Agencies: EPA; USDA/AMS.

U.S. Participation: Yes.

Codex Committee on Methods of Analysis and Sampling

The Codex Committee on Methods of Analysis and Sampling (CCMAS) defines the criteria appropriate to Codex methods of analysis and sampling; serves as a coordinating body for Codex with other international groups working on methods of analysis and sampling and quality assurance systems for laboratories; specifies, on the basis of final recommendations submitted to it by the bodies referred to above, reference methods of analysis and sampling appropriate to Codex standards which are generally applicable to a number of foods; considers, amends if necessary, and endorses as appropriate methods of analysis and sampling proposed by Codex commodity committees, except for methods of analysis and sampling for residues of pesticides or veterinary drugs in food, the assessment of microbiological quality and safety in food, and the assessment of specifications for food additives; elaborates sampling plans and procedures, as may be required; considers specific sampling and analysis problems submitted to it by the Commission or any of its Committees; and defines procedures, protocols, guidelines or related texts for the assessment of food laboratory proficiency, as well as quality assurance systems for laboratories.

The 32nd Session of the Committee met in Budapest, Hungary, March 7-11, 2011. The relevant document is REP11/MAS. The following items will be considered for adoption by the 34th Session of the Commission in July 2011. To be considered for final adoption at Step 8:

• Draft Revised Guidelines on Measurement Uncertainty The Committee will continue working on:

• Endorsement of Methods of Analysis in Codex Standards.

• Principles for the Use of Sampling and Testing in International Food Trade.

• Developing a discussion paper on Provisions for Proprietary Methods.

Responsible Agencies: HHS/FDA; USDA/GIPSA.

U.S. Participation: Yes.

Codex Committee on Food Import and Export Inspection and Certification Systems

The Codex Committee on Food Import and Export Inspection and Certification Systems is responsible for developing principles and guidelines for food import and export inspection and certification systems, with a view to harmonizing methods and procedures that protect the health of consumers, ensure fair trading practices, and facilitate international trade in foodstuffs; developing principles and guidelines for the application of measures by the competent authorities of exporting and importing countries to provide assurance, where necessary, that foodstuffs comply with requirements, especially statutory health requirements; developing guidelines for the utilization, as and when appropriate, of quality assurance systems to ensure that foodstuffs conform with requirements and promote the recognition of these systems in facilitating trade in food products under bilateral/multilateral arrangements by countries; developing guidelines and criteria with respect to format, declarations, and language of such official certificates as countries may require with a view towards international harmonization; making recommendations for information exchange in relation to food import/export control; consulting as necessary with other international groups working on matters related to food inspection and certification systems; and considering other matters assigned to it by the Commission in relation to food inspection and certification systems.

The Committee has not met since the 33rd session of the Commission in 2010. The Committee is working on:

• Proposed draft Principles and Guidelines for National Food Control Systems.

• Discussion paper on further guidance regarding attestation in Generic Model Official Certificate (Annex to CAC/Gl 38-2001)

Responsible Agencies: HHS/FDA; USDA/FSIS.

U.S. Participation: Yes.

Codex Committee on Food Labeling

The Codex Committee on Food Labeling drafts provisions on labeling applicable to all foods; considers, amends, and endorses draft specific provisions on labeling prepared by the Codex Committees drafting standards, codes of practice, and guidelines; and studies specific labeling problems assigned by the Codex Alimentarius Commission. The Committee also studies problems associated with the advertisement of food with particular reference to claims and misleading descriptions.

The Committee held its 39th Session in Quebec City, Canada, on May 9-13, 2011. The reference document is REP 11/FL. The following items will be considered by the 34th Session of the Commission in July 2011. To be considered at Step 8:

• Draft revision of the Guidelines on Nutrition Labeling Concerning the List of Nutrients That are Always Declared on a Voluntary or Mandatory Basis.

To be considered at step 5:

• Proposed Draft Definition of Nutirent Reference Values Proposal.

To be considered at step 5/8:

• Proposed draft Recommendations for the Labeling of Foods and Food Ingredients Obtained through Certain Techniques of Genetic Modification/genetic Engineering.

The Committee is continuing work on:

• Discussion paper on Additional Conditions for Nutrient Content Claims and Comparative Claims in the Guidelines for Use of Nutrition and Health Claims.

• Mandatory Nutrition Labeling.

• Guidelines for the Production, Processing, Labeling and Marketing of Organically Produced Foods.

• Annex 1: Inclusion of Ethylene for other Products.

• Organic Aquaculture.

Responsible Agencies: HHS/FDA; USDA/FSIS.

U.S. Participation: Yes.

Codex Committee on Food Hygiene

The Codex Committee on Food Hygiene (CCFH):

• Develops basic provisions on food hygiene applicable to all food or to specific food types;

• Considers and amends or endorses provisions on food hygiene contained in Codex commodity standards and codes of practice developed by other Codex commodity committees;

• Considers specific food hygiene problems assigned to it by the Commission;

• Suggests and prioritizes areas where there is a need for microbiological risk assessment at the international level and develops questions to be addressed by the risk assessors; and

• Considers microbiological risk management matters in relation to food hygiene and in relation to FAO/WHO risk assessments.

The 42nd Session of the CCFH met in Kampala, Uganda, on November 29-December 3, 2010. The reference document is ALINORM REP 11/FH. Two documents that advanced to Step 5/8 at the 42nd session will be considered for final adoption by the Codex Alimentarius Commission (CAC) at the 34th session in July 2011. Those documents being considered for final adoption at Step 5/8 are:

• Proposed draft Guideline for the Control of Campylobacter and Salmonella spp in Chicken Meat.

• Proposed draft Revision of the Recommended International Code of Hygienic Practice for Collecting, Processing and Marketing of Natural Mineral Waters.

The Committee continues to work on the following:

• Proposed draft Guidelines on the Application of General Principles of Food Hygiene to the Control of Viruses in Food (at Step 3).

• Proposed Revision of the Principles for the Establishment and Application of Microbiological Criteria for Foods (at Step 2/3).

The Committee agreed to begin new work on:

• Guidelines for Control of specific Zoonotic Parasites in Meat: Trichinella spiralis and Cysticercus bovis.

• Annex on Melons to the Code of Hygienic Practice for Fresh Fruits and Vegetables.

• Discussion paper on the review of the risk analysis principles and procedures applied by the Codex Committee on Food Hygiene.

Responsible Agencies: HHS/FDA; USDA/FSIS.

U.S. Participation: Yes.

Codex Committee on Fresh Fruits and Vegetables

The Codex Committee on Fresh Fruits and Vegetables is responsible for elaborating worldwide standards and codes of practice as may be appropriate for fresh fruits and vegetables; for consulting with the UNECE Working Party on Agricultural Quality Standards in the elaboration of worldwide standards and codes of practice with particular regard to ensuring that there is no duplication of standards or codes of practice and that they follow the same broad format; and for consulting, as necessary, with other international organizations which are active in the area of standardization of fresh fruits and vegetables.

The Committee held its 16th Session in Mexico City, Mexico, on May 2-6, 2011. The reference document is REP11/FFV. The following will be considered by the Commission at its 34th session in July 2011. To be considered at step 8:

• Draft Standard for Tree Tomatoes.

To be considered at step 5/8:

• Proposed draft Standard for Chili Peppers.

The Committee will continue working on:

• Draft Standard for Avocado at Step 7.

• Proposed draft Standard for Pomegranate at Step 5.

• Proposed draft Standard for Golden Passion Fruit.

• Proposed layout for Codex Standards for Fresh Fruits and Vegetables (including matters relating to point of application and quality tolerances at import/export control points).

• Proposals for new work on Codex Standards for Fresh Fruits and Vegetables.

Responsible Agencies: USDA/AMS; HHS/FDA.

U.S. Participation: Yes.

Codex Committee on Nutrition and Foods for Special Dietary Uses

The Codex Committee on Nutrition and Foods for Special Dietary Uses (CCNFSDU) is responsible for studying nutrition issues referred to it by the Codex Alimentarius Commission. The Committee also drafts general provisions, as appropriate, on nutritional aspects of all foods and develops standards, guidelines, or related texts for foods for special dietary uses in cooperation with other committees where necessary; considers, amends if necessary, and endorses provisions on nutritional aspects proposed for inclusion in Codex standards, guidelines, and related texts.

The Committee held its 32nd Session in Santiago, Chile, on November 1-5, 2010. The reference document is REP 11/NSFDU. The following items will be considered by the Commission at its 34th Session in July 2011. To be considered for final adoption at Step 8:

• Draft Annex to the Guidelines on Nutrition Labeling: General Principles for Establishing Nutrient Reference Values of Vitamins and Minerals for the General Population.

The Committee will continue work on:

• Proposed draft Additional or Revised Nutrient Reference Values for Labeling Purposes in the Codex Guidelines on Nutrition Labeling.

• Proposed draft revision of the Codex General Principles for the Addition of Essential Nutrients to Foods.

• Proposed draft revision of the Guidelines on Formulated Supplementary Foods for Older Infants and Young Children.

• Proposed draft Nutrient Reference Values (NRVs) for Nutrients Associated with Risk of Diet Related Noncommunicable Diseases for the General Population.

• New work on a New Part B for Underweight Children in the Standard for Processed Cereal-Based Foods for Infants and Young Children.

• Discussion paper for consideration of the revision of the Standard for Follow-up Formula.

Responsible Agencies: HHS/FDA; USDA/ARS.

U.S. Participation: Yes.

Codex Committee on Fats and Oils

The Codex Committee on Fats and Oils (CCFO) is responsible for elaborating worldwide standards for fats and oils of animal, vegetable, and marine origin, including margarine and olive oil. The Committee held its 22nd Session in Penang, Malaysia, on February 21-25, 2011. The following items will be considered for adoption by the 34th Session of the Commission in July 2011. To be considered for final adoption at Step 8:

• Draft amendment to the Standard for Named Vegetable Oils: Inclusion of Palm Kernel Olein and Palm Kernel Stearin.

• Code of Practice for the Storage and Transport of Edible Fats and Oils in Bulk: Draft Criteria to Assess the Acceptability of Substances for Inclusion in a List of Acceptable Previous Cargoes.

• Code of Practice for the Storage and Transport of Edible Fats and Oils in Bulk: Draft List of Acceptable Previous Cargoes.

To be considered for adoption at Step 5/8:

• Code of Practice for the Storage and Transport of Edible Fats and Oils in Bulk: Proposed Draft List of Acceptable Previous Cargoes.

The Commission will consider whether to endorse new work on:

• Development of a Standard for Fish Oils.

• Proposed draft amendment to the Standard for Named Vegetable Oils; Rice Bran Oil.

The Commission will consider whether to discontinue work on the following:

• Proposed draft amendment to the Standard for Olive Oils and Olive Pomace Oils: Linolenic Acid Level.

Responsible Agencies: HHS/FDA; USDA/ARS.

U.S. Participation: Yes.

Codex Committee on Processed Fruits and Vegetables

The Codex Committee on Processed Fruits and Vegetables (CCPFV) is responsible for elaborating worldwide standards for all types of processed fruits and vegetables including dried products, canned dried peas and beans, and jams and jellies (but not dried prunes or fruit and vegetable juices), as well as revision of standards for quick frozen fruits and vegetables.

The 25th Session of the CCPFV met in Denpasar, Bali, Indonesia, on October 25-29, 2010. The reference document is ALINORM REP 11/PFV. The results of the 25th Session of the CCPFV will be considered by the Commission at its 34th session in July 2011. The following item will be considered for final adoption:

• Proposed amendment to the Terms of Reference of the Committee on Processed Fruits and Vegetables to add responsibility for elaboration of standards for fruit and vegetable juices and nectars and related products.

The following items will be considered for final adoption at Step 5/8:

• Proposed draft Codex Standard for Desiccated Coconut.

• Proposed draft Annex on Certain Mushrooms.

• Proposed draft Codex Standard for Canned Bamboo Shoots.

The Committee continues to work on the following:

• Proposed draft Codex Standard for Table Olives.

• Proposed draft Codex Sampling Plans including Metrological Provisions for Controlling Minimum Drained Weight of Canned Fruits and Vegetables in Packing Media.

• Proposed draft Codex Standard for Certain Quick Frozen Vegetables.

• Proposed draft Codex Standard for Certain Canned Fruits.

• Food Additive Provisions for Processed Fruits and Vegetables.

• Packing Media Provisions for Pickled Vegetables.

• Methods of Analysis for Applesauce.

• Discussion paper on the Extension of Territorial Application of the Codex Standard for Ginseng Products.

• Discussion paper on the Need for a Codex Standard for Chemically Flavored Water-based Drinks.

Responsible Agencies: USDA/AMS; HHS/FDA.

U.S. Participation: Yes.

Certain Codex Commodity Committees

Several Codex Alimentarius Commodity Committees have adjourned sine die. The following Committees fall into this category:

• Cereals, Pulses and Legumes.

Responsible Agency: HHS/FDA.

U.S. Participation: Yes.

• Cocoa Products and Chocolate.

Responsible Agency: HHS/FDA.

U.S. Participation: Yes.

• Meat Hygiene.

Responsible Agency: USDA/FSIS.

U.S. Participation: Yes.

• Milk and Milk Products.

Responsible Agencies: USDA/AMS; HHS/FDA.

U.S. Participation: Yes.

• Natural Mineral Waters.

Responsible Agency: HHS/FDA.

U.S. Participation: Yes.

• Sugars.

Responsible Agencies: HHS/FDA.

U.S. Participation: Yes.

• Vegetable Proteins.

Responsible Agency: USDA/ARS.

U.S. Participation: Yes.

Ad hoc Intergovernmental Task Force on Antimicrobial Resistance

The ad hoc Intergovernmental Task Force on Antimicrobial Resistance (TFAMR) was created by the 29th Session of the Commission.

The Task Force was hosted by the Republic of Korea and had a timeframe of four sessions, starting with its first meeting in October 2007. Its objective was to develop science-based guidance to be used to assess the risks to human health associated with the presence in food and feed, including aquaculture, and the transmission through food and feed, of antimicrobial resistant microorganisms and antimicrobial resistance genes and to develop appropriate risk management advice based on that assessment to reduce such risk. In this process, work undertaken in this field at national, regional, and international levels was to be taken into account.

The 4th and final Session of the Task Force met in Muju, Republic of Korea, on October 18-22, 2010. The relevant document, Draft Guidelines for Risk Analysis of Foodborne Antimicrobial Resistance (REP11/AMR), will be considered for adoption by the Codex Alimentarius Commission (CAC) at the 34th session in July 2011.

Responsible Agencies: HHS/FDA; USDA/FSIS.

U.S. Participation: Yes.

FAO/WHO Regional Coordinating Committees

The FAO/WHO Regional Coordinating Committees define the problems and needs of the regions concerning food standards and food control; promote within the Committee contacts for the mutual exchange of information on proposed regulatory initiatives and problems arising from food control and stimulate the strengthening of food control infrastructures; recommend to the Commission the development of worldwide standards for products of interest to the region, including products considered by the Committees to have an international market potential in the future; develop regional standards for food products moving exclusively or almost exclusively in intra-regional trade; draw the attention of the Commission to any aspects of the Commission's work of particular significance to the region; promote coordination of all regional food standards work undertaken by international governmental and non-governmental organizations within each region; exercise a general coordinating role for the region and such other functions as may be entrusted to it by the Commission; and promote the use of Codex standards and related texts by members.

Coordinating Committee for Africa

The Committee (CCAfrica) held its 19th session in Accra, Ghana, from February 1-4, 2011. The relevant document is REP11/AFRICA. The Committee agreed to submit a number of recommendations regarding measures that the Commission and FAO/WHO could take in connection with private food safety standards. The Committee also noted that a worldwide standard for processed cheese was necessary, but if that was not possible, a regional standard for Africa should be developed.

Responsible Agency: USDA/FSIS.

U.S. Participation: Yes (as observer).

Coordinating Committee for Asia

The Committee (CCAsia) held its 16th session in Bali, Indonesia, from November 22-26, 2010. The relevant document is REP11/ASIA. The following items will be considered for final adoption at Step 8:

• Draft Regional Standard for Edible Sago Flour.

To be considered for adoption at Step 5/8:

• Proposed draft Regional Standard for Chili Sauce.

The Committee continues to work on:

• Proposed draft Standard for Non-Fermented Soybean Products.

• Proposed draft Regional Standard for Tempe.

• Proposed draft Regional Standard for Durian.

• Discussion paper on new work on a Regional Standard for Yuza.

• Discussion paper on new work on a Regional Standard for Edible Crickets and Their Products.

• Update of (i) the implementation of the Strategic Plan for Asia and (ii) issues relevant to the region and draft strategic plan for CCASIA.

• Proposal for new work on a Codex Regional Standard for Laver Products.

Responsible Agency: USDA/FSIS.

U.S. Participation: Yes (as observer).

Coordinating Committee for Europe

The Committee (CCEurope) held its 27th session in Warsaw, Poland, from October 5-8, 2010. The relevant document is REP 11/EURO.

The Committee agreed to nominate Poland for appointment as the Regional Coordinator by the 34th session of the Commission.

The Committee also agreed to propose new work on the revision of the Regional Standard for Fresh Fungus “Chanterelle” and on a regional standard for Ayran.

Responsible Agency: USDA/FSIS.

U.S. Participation: Yes (as observer).

Coordinating Committee for Latin America and the Caribbean

The Coordinating Committee for Latin America and the Caribbean (CCLAC) held its 17th session in Acapulco, Mexico, from November 8-12, 2010. The relevant document is REP 11/LAC. The following items will be considered for adoption at the 34th Session of the Commission:

• Proposed draft Codex Regional Standard for Culantro Coyote.

• Proposed draft Codex Regional Standard for Lucuma.

The Committee will continue working on:

• Discussion paper on the formulation of regional positions by CCLAC.

Responsible Agency: USDA/FSIS.

U.S. Participation: Yes (as observer).

Coordinating Committee for the Near East

The Committee (CCNEA) will hold its 6th session in Hammamet, Tunisia, from May 23-27, 2011. The Committee will be working on:

• 2.1 Strategic Plan 2008-2013.

• 2.2 Private Standards.

• 2.3 Processed Cheese.

• 2.4 Revised Strategic Plan.

• Proposed draft Code of Practice for Street Vended Foods.

• Proposed draft Regional Standard for Harissa (hot pepper paste).

• Proposed draft Regional Standard for halwa Tehenia.

• Project document for Regional Standards for Doogh.

• Project document for a Regional Standard for Camel Milk.

• Project documents for Regional Standards for Date Paste and Date Molasses.

• Classification of foods based on risks.

• FAO/WHO Activities complementary to the work of the Codex Alimentarius Commission, including FAO/WHO project and Trust Fund for Enhanced Participation in Codex.

• Activities of the STDF Programme in the Region.

• National Food Control Systems and Consumer Participation in Food Standard Setting.

• Use of Codex Standards and Consumer Participation in Food Standard Setting.

• Use of Codex Standards at National and Regional Level.

• Nutritional Issues within the Region.

• Participation in Codex work and in FAO/WHO activities related to scientific advice.

Responsible Agency: USDA/FSIS.

U.S. Participation: Yes (as observer).

Coordinating Committee for North America and the Southwest Pacific (CCNASWP)

The Committee (CCNASWP) held its 11th Session in Nuku'alofa, Tonga, from September 28th through October 1st, 2010. The relevant document is REP11/NASWP. The Committee continues to work on:

• Draft Revised Strategic Plan for the CCNASWP 2014-2018.

• Discussion paper on the development of a commodity standard for Kava.

• Discussion paper on the development of a commodity standard for Nonu (Noni).

Responsible Agency: USDA/FSIS.

U.S. Participation: Yes.

Attachment 2

U.S. Codex Alimentarius Officials Codex Chairpersons From the United States

Codex Committee on Food Hygiene

Emilio Esteban, DVM, MBA, MPVM, PhD, Scientific Advisor for Laboratory Services & Research, Office of Public Health Science, Food Safety and Inspection Service, U.S. Department of Agriculture, 950 College Station Road, Athens, GA 30605. Phone: (706) 546-3429. Fax: (706) 546-3428. E-mail: emilio.esteban@fsis.usda.gov.

Codex Committee on Processed Fruits and Vegetables

Richard Boyd, Head, Defense Contract Inspection Section, Processed Products Branch, Fruit and Vegetable Programs, Agricultural Marketing Service, U.S. Department of Agriculture, 1400 Independence Avenue, SW., Mail Stop 0247, Room 0726-South Building, Washington, DC 20250. Phone: (202) 720-5021. Fax: (202) 690-1527. E-mail: richard.boyd@ams.usda.gov.

Codex Committee on Residues of Veterinary Drugs in Foods

Steven D. Vaughn, DVM, Director, Office of New Animal Drug Evaluation, Center for Veterinary Medicine, U.S. Food and Drug Administration, MPN 1, Room 236, 7520 Standish Place, Rockville, Maryland 20855. Phone: (240) 276-8300. Fax: (240) 276-8242. E-mail: Steven.Vaughn@fda.hhs.gov.

Listing of U.S. Delegates and Alternates Worldwide General Subject Codex Committees

Codex Committee on Contaminants in Foods

(Host Government—the Netherlands)

U.S. Delegate

Nega Beru, PhD, Director, Office of Food Safety (HFS-300), Center for Food Safety and Applied Nutrition, U.S. Food and Drug Administration, 5100 Paint Branch Parkway, College Park, MD 20740. Phone: (240) 402-1700. Fax: (301) 436-2651. E-mail: Nega.Beru@fda.hhs.gov.

Alternate Delegate

Kerry Dearfield, PhD, Scientific Advisor for Risk Assessment, Office of Public Health Science, Food Safety and Inspection Service, U.S. Department of Agriculture, 1400 Independence Avenue, SW., Room 380, Aerospace Center, Washington, DC 20250. Phone: (202) 690-6451. Fax: (202) 690-6337. E-mail: Kerry.Dearfield@fsis.usda.gov.

Codex Committee on Food Additives

(Host Government—China)

U.S. Delegate

Dennis M. Keefe, PhD, Office of Premarket Approval, Center for Food Safety and Applied Nutrition, U.S. Food and Drug Administration (HFS-205), Harvey W. Wiley Federal Building, 5100 Paint Branch Parkway, College Park, MD 20740-3835. Phone: (240) 402-1284. Fax: (301) 436-2972. E-mail: dennis.keefe@fda.hhs.gov.

Alternate Delegate

Susan E. Carberry, PhD, Supervisory Chemist, Division of Petition Review, Office of Food Additive Safety (HFS-265), Center for Food Safety and Applied Nutrition, U.S. Food and Drug Administration, 5100 Paint Branch Parkway, College Park, MD 20740. Phone: (240) 402-1269. Fax: (301) 436-2972. E-mail: Susan.Carberry@fda.hhs.gov.

Codex Committee on Food Hygiene

(Host Government—United States)

U.S. Delegate

Jenny Scott, Senior Advisor, Office of Food Safety, Center for Food Safety and Applied Nutrition, U.S. Food and Drug Administration, 5100 Paint Branch Parkway, HFS-300, Room 3B-014, College Park, MD 20740-3835. Phone: (240) 402-2166. Fax: (202) 436-2632. E-mail: Jenny.Scott@fda.hhs.gov.

Alternate Delegates

Kerry Dearfield, PhD, Scientific Advisor for Risk Assessment, Office of Public Health Science, Food Safety and Inspection Service, U.S. Department of Agriculture, 1400 Independence Avenue, SW., Room 380, Aerospace Center, Washington, DC 20250. Phone: (202) 690-6451. Fax: (202) 690-6337. E-mail: Kerry.Dearfield@fsis.usda.gov.

Dr. Joyce Saltsman, Interdisciplinary Scientist, Office of Food Safety (HFS-317), Center for Food Safety and Applied Nutrition, U.S. Food and Drug Administration, 5100 Paint Branch Parkway, College Park, MD 20740. Phone: (240) 402-1641. Fax: (301) 436-2651. E-mail: Joyce.Saltsman@fda.hhs.gov.

Codex Committee on Food Import and Export Inspection and Certification Systems

(Host Government—Australia)

U.S. Delegate

Mary Stanley, Director, International Policy Division, Office of Policy and Program Development, Food Safety and Inspection Service, U.S. Department of Agriculture, Room 2925, South Agriculture Building, 1400 Independence Avenue, SW., Washington, DC 20250. Phone: (202) 720-0287. Fax: (202) 720-4929. E-mail: Mary.Stanley@fsis.usda.gov.

Alternate Delegate

H. Michael Wehr, Senior Advisor and Codex Program Coordinator, International Affairs Staff, Center for Food Safety and Applied Nutrition, U.S. Food and Drug Administration, 5100 Paint Branch Parkway (HFS-550), College Park, MD 20740. Phone: (240) 402-1724. Fax: (301) 436-2618. E-mail: Michael.wehr@fda.hhs.gov.

Codex Committee on Food Labeling

(Host Government—Canada)

U.S. Delegate

Barbara O. Schneeman, PhD, Director, Office of Nutrition, Labeling, and Dietary Supplements, Center for Food Safety and Applied Nutrition, U.S. Food and Drug Administration, 5100 Paint Branch Parkway (HFS-800), College Park, MD 20740. Phone: (240) 402-2373. Fax: (301) 436-2636. E-mail: barbara.schneeman@fda.hhs.gov.

Alternate Delegate

Jeffrey Canavan, Deputy Director, Labeling and Program Delivery Division, Food Safety and Inspection Service, U.S. Department of Agriculture, 5601 Sunnyside Ave., Stop 5273, Beltsville, MD 20705-5273. Phone: (301) 504-0860. Fax: (301) 504-0872. Jeff.canavan@fsis.usda.gov.

Codex Committee on General Principles

(Host Government—France)

U.S. Delegate

Note: A member of the Steering Committee heads the delegation to meetings of the General Principles Committee.

Codex Committee on Methods of Analysis and Sampling

(Host Government—Hungary)

U.S. Delegate

Gregory Diachenko, PhD, Director, Division of Product Manufacture and Use, Office of Premarket Approval, Center for Food Safety and Applied Nutrition (CFSAN), U.S. Food and Drug Administration (HFS-300), Harvey W. Wiley Federal Building, 5100 Paint Branch Parkway, College Park, MD 20740-3835. Phone: (240) 402-2387. Fax: (301) 436-2364. E-mail: gregory.diachenko@fda.hhs.gov.

Alternate Delegate

David B. Funk, Associate Director for Methods Development, Technical Services Division, Grain Inspection, Packyards and Stockyards Administration, U.S. Department of Agriculture, 10383 N. Ambassador Dr., Kansas City, MO 64153. Phone: (816) 891-0473. Fax: (816) 891-0478. David.b.funk@usda.gov.

Codex Committee on Nutrition and Food for Special Dietary Uses

(Host Government—Germany)

U.S. Delegate

Barbara O. Schneeman, PhD, Director, Office of Nutrition, Labeling and Dietary Supplements, Center for Food Safety and Applied Nutrition, U.S. Food and Drug Administration, 5100 Paint Branch Highway (HFS-800), College Park, MD 20740. Phone: (240) 402-2373. Fax: (301) 436-2636. E-mail: barbara.schneeman@fda.hhs.gov.

Alternate Delegate

Allison Yates, PhD, Director, Beltsville Human Nutrition Research Center, Agricultural Research Service, U.S. Department of Agriculture, 10300 Baltimore Avenue, Bldg 307C, Room 117, Beltsville, MD 20705. Phone: (301) 504-8157. Fax: (301) 504-9381. E-mail: Allison.Yates@ars.usda.gov.

Codex Committee on Pesticide Residues

(Host Government—China)

U.S. Delegate

Lois Rossi, Director of Registration Division, Office of Pesticide Programs, U.S. Environmental Protection Agency, Ariel Rios Building, 1200 Pennsylvania Avenue, NW., Washington, DC 20460. Phone: (703) 305-5447. Fax: (703) 305-6920. E-mail: rossi.lois@epa.gov.

Alternate Delegate

Dr. Pat Basu, Senior Advisor, Chemistry, Toxicology, & Related Sciences, Office of Public Health Science, Food Safety and Inspection Service, U.S. Department of Agriculture, 1400 Independence Ave, SW., Washington, DC 20250. Phone: (202) 690-6558. Fax: (202) 690-2364. Pat.Basu@fsis.usda.gov.

Codex Committee on Residues of Veterinary Drugs in Foods

(Host Government—United States)

U.S. Delegate

Dr. Kevin Greenlees, Senior Advisor for Science & Policy, Office of New Animal Drug Evaluation, HFV-100, Center for Veterinary Medicine, U.S. Food and Drug Administration, 7520 Standish Place, Rockville, MD 20855. Phone: (240) 276-8214. Fax: (240) 276-9538. E-mail: Kevin.Greenlees@fda.hhs.gov.

Alternate Delegate

Dr. Charles Pixley, Director, Laboratory Quality Assurance Division, Office of Public Health Science, Food Safety and Inspection Service, U.S. Department of Agriculture, 950 College Station Road, Athens, GA 30605. Phone: (706) 546-3559. Fax: (706) 546-3452. E-mail: charles.pixley@fsis.usda.gov.

Worldwide Commodity Codex Committees (Active)

Codex Committee on Fats and Oils

(Host Government—Malaysia)

U.S. Delegate

Martin J. Stutsman, J.D., Office of Food Safety (HFS-317), Center for Food Safety and Applied Nutrition, U.S. Food and Drug Administration, 5100 Paint Branch Parkway, College Park, MD 20740-3835. Phone: (240) 402-1642. Fax: (301) 436-2651. E-mail: Martin.Stutsman@fda.hhs.gov.

Alternate Delegate

Robert A. Moreau, PhD, Research Chemist, Eastern Regional Research Center, Agricultural Research Service, U.S. Department of Agriculture, 600 East Mermaid Lane, Wyndmoor, PA 19038. Phone: (215) 233-6428. Fax: (215) 233-6406. robert.moreau@ars.usda.gov.

Codex Committee on Fish and Fishery Products

(Host Government—Norway)

Delegates

Timothy Hansen, Director, Seafood Inspection Program, National Marine Fisheries Service, National Oceanic and Atmospheric Administration, 1315 East West Highway SSMC#3, Silver Spring, MD 20910. Phone: (301) 713-2355. Fax: (301) 713-1081. Timothy.Hansen@noaa.gov.

Dr. William Jones, Director, Division of Seafood Safety, Office of Food Safety (HFS-325), U.S. Food and Drug Administration, 5100 Paint Branch Parkway, College Park, MD 20740. Phone: (240) 402-2300. Fax: (301) 436-2601. William.Jones@fda.hhs.gov.

Codex Committee on Fresh Fruits and Vegetables

(Host Government—Mexico)

U.S. Delegate

Dorian LaFond, International Standards Coordinator, Fruit and Vegetables Division, Agricultural Marketing Service, U.S. Department of Agriculture, Stop 0235—Room 2086, South Agriculture Building, 1400 Independence Avenue, SW., Washington, DC 20250-0235. Phone: (202) 690-4944. Fax: (202) 720-0016. E-mail: dorian.lafond@usda.gov.

Alternate Delegate

Dongmin Mu, Product Evaluation and Labeling Team, Food Labeling and Standards Staff, Office of Nutrition, Labeling and Dietary Supplements, U.S. Food and Drug Administration, 5100 Paint Branch Parkway, College Park, MD 20740. Phone: (240) 402-1775. Fax: (301) 436-2636. dongmin.mu@fda.hhs.gov.

Codex Committee on Processed Fruits and Vegetables

(Host Government—United States)

U.S. Delegate

Dorian LaFond, International Standards Coordinator, Fruit and Vegetable Division, Agricultural Marketing Service, U.S. Department of Agriculture, Stop 0235, Room 2086, South Agriculture Building, 1400 Independence Avenue, SW., Washington, DC 20250-0235. Phone: (202) 690-4944. Fax: (202) 720-0016. E-mail: dorian.lafond@usda.gov.

Alternate Delegate

Paul South, PhD, Division of Plant and Diary Foods, Office of Food Safety, Center for Food Safety and Applied Nutrition, U.S. Food and Drug Administration, 5100 Paint Branch Parkway, College Park, MD 20740. Phone: (240) 402-1640. Fax: (301) 436-2561. E-mail: paul.south@fda.hhs.gov.

Worldwide Commodity Codex Committees (Adjourned)

Codex Committee on Cocoa Products and Chocolate (Adjourned sine die)

(Host Government—Switzerland)

U.S. Delegate

Michelle Smith, PhD, Food Technologist, Office of Plant and Dairy Foods and Beverages, Center for Food Safety and Applied Nutrition, U.S. Food and Drug Administration (HFS-306), Harvey W. Wiley Federal Building, 5100 Paint Branch Parkway, College Park, MD 20740-3835. Phone: (240) 402-2024. Fax: (301) 436-2651. E-mail: michelle.smith@fda.hhs.gov.

Cereals, Pulses and Legumes (Adjourned Sine Die)

(Host Government—United States)

Delegate

Henry Kim, PhD, Supervisory Chemist, Division of Plant Product Safety, Office of Plant and Dairy Foods, Center for Food Safety and Applied Nutrition, U.S. Food and Drug Administration, 5100 Paint Branch Parkway, College Park, MD 20740. Phone: (240) 402-2023. Fax: (301) 436-2651. henry.kim@fda.hhs.gov.

Codex Committee on Meat Hygiene (Adjourned Sine Die)

(Host Government—New Zealand)

U.S. Delegate

VACANT

Codex Committee on Milk and Milk Products (Adjourned Sine Die)

(Host Government—New Zealand)

U.S. Delegate

Duane Spomer, Chief, Safety, Security and Emergency Preparedness Branch, Agricultural Marketing Service, U.S. Department of Agriculture, Room 1114, South Agriculture Building, 1400 Independence Avenue, SW., Washington, DC 20250. Phone: (202) 720-1861. Fax: (202) 690-2306. E-mail: duane.spomer@usda.gov.

Alternate Delegate

John F. Sheehan, Director, Division of Dairy and Egg Safety, Office of Plant and Dairy Foods and Beverages, Center for Food Safety and Applied Nutrition, U.S. Food and Drug Administration (HFS-306), Harvey W. Wiley Federal Building, 5100 Paint Branch Parkway, College Park, MD 20740. Phone: (240) 402-1488. Fax: (301) 436-2632. E-mail: john.sheehan@fda.hhs.gov.

Codex Committee on Natural Mineral Waters

(Host Government—Switzerland)

U.S. Delegate

Lauren Posnick Robin, Sc.D., Review Chemist, Office of Plant and Dairy Foods, Center for Food Safety and Applied Nutrition, U.S. Food and Drug Administration, Harvey W. Wiley Federal Building, 5100 Paint Branch Parkway, College Park, MD 20740-3835. Phone: (240) 402-1639. Fax: (301) 436-2651. E-mail: Lauren.Robin@fda.hhs.gov.

Codex Committee on Sugar (Adjourned Sine Die)

(Host Government—United Kingdom)

U.S. Delegate

Martin J. Stutsman, J.D., Office of Food Safety (HFS-317), Center for Food Safety and Applied Nutrition, U.S. Food and Drug Administration, 5100 Paint Branch Parkway, College Park, MD 20740-3835. Phone: (240) 402-1642. Fax: (301) 436-2651. E-mail: Martin.Stutsman@fda.hhs.gov.

Codex Committee on Vegetable Proteins (Adjourned Sine Die)

(Host Government—Canada)

U.S. Delegate

Dr. Wilda H. Martinez, Area Director, ARS North Atlantic Area, Agricultural Research Service, U.S. Department of Agriculture, 600 E. Mermaid Lane, Wyndmoor, PA 19038. Phone: (215) 233-6593. Fax: (215) 233-6719. E-mail: wmartinez@ars.usda.gov.

Ad Hoc Intergovernmental Task Forces

Ad Hoc Intergovernmental Task Force on Animal Feeding

(Host government—Denmark)

Delegate

Daniel G. McChesney, PhD, Director, Office of Surveillance & Compliance, Center for Veterinary Medicine, U.S. Food and Drug Administration, 7529 Standish Place, Rockville, MD 20855. Phone: (240) 453-6830. Fax: (240) 453-6880. Daniel.McChesney@fda.hhs.gov.

Alternate

Dr. Patty Bennett, Branch Chief, Risk Assessment Division, Office of Public Health Science, Food Safety and Inspection Service, U.S. Department of Agriculture, 901 Aerospace Center, Washington, DC 20250. Phone: (202) 690-6189. patty.bennett@fsis.usda.gov.

Ad Hoc Intergovernmental Task Force on Antimicrobial Resistance

(Host Government—Republic of Korea)

U.S. Delegate

David G. White, M.S., PhD, Director, Office of Research, U.S. Food and Drug Administration, Center for Veterinary Medicine, 8401 Muirkirk Road, Laurel, MD 20708. Phone: (301) 210-4187. Fax: (301) 210-4685. E-mail: David.White@fda.hhs.gov.

Alternate Delegate

Neena Anandaraman, D.V.M., Veterinary Medical Officer, Applied Epidemiology Division, Office of Public Health Science, Food Safety and Inspection Service, U.S. Department of Agriculture, 1400 Independence Ave., SW., Room 343, Aerospace Center, Washington, DC 20250. Phone: (202)690-6429. Fax: (202) 720-8213. E-mail: neena.anandaraman@fsis.usda.gov.

There are six regional coordinating committees:

Coordinating Committee for Africa,

Coordinating Committee for Asia,

Coordinating Committee for Europe,

Coordinating Committee for Latin America and the Caribbean,

Coordinating Committee for the Near East,

Coordinating Committee for North America and the Southwest, Pacific.

Contact:

Karen Stuck, United States Manager for Codex, U.S. Department of Agriculture, Office of Food Safety, Room 4861, South Agriculture Building, 1400 Independence Avenue, SW., Washington, DC 20250-3700. Phone: (202) 205-7760. Fax: (202) 720-3157. E-mail: karen.stuck@osec.usda.gov.

[FR Doc. 2011-13985 Filed 6-2-11; 4:15 pm]

BILLING CODE 3410-DM-P